DEPARTMENT OF HEALTH AND HUMAN SERVICES

Office of the Secretary

[Document Identifier: HHS-OS-19133-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before August 19, 2013.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and the document identifier HHS-OS-19133-30D for reference.

Information Collection Request Title: MOVE: Making Our Vitality Evident.

Abstract: The Office of Women's Health (OWH) and the Department of Health and Human Services (HHS) Coordinating Committee on Lesbian, Gay, Bi-sexual and Transgender (LGBT) Issues have prioritized the collection of health data on LGBT populations. In response, OWH funded an initiative to identify and test effective and innovative ways of reducing obesity in lesbian and bisexual women. The Healthy Weight in Lesbian and Bisexual Women Program was established in Washington, DC. The purpose of the program is to evaluate interventions that promote healthy weight in LB women through a 16-week group support program, including physical activity and nutrition, tailored to sexual minority women. Both doctors and nurses will be recruited and trained to assist with evaluation the outcomes of the program.

Need and Proposed Use of the Information: Addresses barriers to health for the LB community, and promotes overall health and wellbeing. The intervention will incorporate community-identified weight loss/risk reduction needs of this population. Following the completion of the surveys and interventions, collected data will be used to develop, deliver and evaluate a curriculum for medical professionals, which will emphasize working with LB women's particular needs and expectations. And emphasize skills in motivational interviewing for helping patients to undertake new and difficult lifestyle adjustments.

Likely Respondents: Lesbian and bi-sexual women forty years of age and older.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
Pre-Test Women's Survey | 40 | 1 | 23/60 | 15
Post-Test Women's Survey | 40 | 1 | 23/60 | 15
Pre-Test Physician's/Nurses Survey | 150 | 1 | 5/60 | 13
Post-Test Physician's/Nurses Survey | 150 | 1 | 5/60 | 13
Total |  |  |  | 56

Keith A. Tucker,
Information Collection Clearance Officer.

[FR Doc. 2013-17216 Filed 7-17-13; 8:45 am]

BILLING CODE 4150-33-P